FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 16, 2014.

A. Federal Reserve Bank of Kansas City (Dennis Denney, Assistant Vice President), 1 Memorial Drive, Kansas City, Missouri 64198-0001:

1. The Stanton D. Nelson Trust No. 2, the Clark S. Nelson Trust No. 2, the N. Terry Nelson Trust No. 7, and the N. Terry Nelson Trust No. 8, all of Long Island, Kansas; and Clarke S. Nelson, Long Island, Kansas; Stanton D. Nelson, Norton, Kansas; John McClymont, Norton, Kansas; Janet M. Sell, Long Island, Kansas; and John P. Engelbert, Norton, Kansas, all as co-trustees of one or more of the trusts, and as members of the Nelson Control Group acting in concert; to acquire voting shares of Norton Bankshares, Inc., and thereby indirectly acquire voting shares of The First State Bank, both in Norton, Kansas.

In connection with this application, Clark S. Nelson Trust No. 2, Long Island, Kansas, and all trustees listed above also have applied to acquire voting shares of Norton Bankshares, Inc., and thereby indirectly acquire voting shares of The First State Bank, both in Norton, Kansas.

Board of Governors of the Federal Reserve System, June 26, 2014.
Michael J. Lewandowski,
Associate Secretary of the Board.

[FR Doc. 2014-15349 Filed 6-30-14; 8:45 am]

BILLING CODE 6210-01-P